DEPARTMENT OF TRANSPORTATION

Federal Aviation Administration

14 CFR Part 39

[Docket No. FAA-2025-3994; Project Identifier MCAI-2025-01607-A; Amendment 39-23179; AD 2025-21-51]

RIN 2120-AA64

Airworthiness Directives; Polskie Zakłady Lotnicze Sp. z o.o. Airplanes

AGENCY: Federal Aviation Administration (FAA), DOT.

ACTION: Final rule; request for comments.

SUMMARY: The FAA is adopting a new airworthiness directive (AD) for all Polskie Zakłady Lotnicze Sp. z o.o. Model PZL M28 05 airplanes. The FAA previously sent this AD as an emergency AD to all known U.S. owners and operators of these airplanes. This AD was prompted by damage found in Frame No. 29 and rudder control unit mounting components on Frame No. 29. This AD requires a one-time inspection of the rudder control system mounting bracket attachment components to Frame No. 29 for loose or damaged bolts and the components of Frame No. 29 for cracks and damage, and corrective actions if necessary. The FAA is issuing this AD to address the unsafe condition on these products.

DATES: This AD is effective November 19, 2025. Emergency AD 2025-21-51, issued on October 15, 2025, which contains the requirements of this amendment, was effective with actual notice.

The Director of the Federal Register approved the incorporation by reference of a certain publication identified in this AD as of November 19, 2025.

The FAA must receive comments on this AD by December 19, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-3994; or in person at Docket Operations between 9 a.m. and 5 p.m., Monday through Friday, except Federal holidays. The AD docket contains this final rule, the mandatory continuing airworthiness information (MCAI), any comments received, and other information. The street address for Docket Operations is listed above.

Material Incorporated by Reference:

• For Polskie Zakłady Lotnicze Sp. z o.o. material identified in this AD, contact Polskie Zakłady Lotnicze Sp. z o.o., Wojska Polskiego 3, 39-300 Mielec, Poland; phone: +48 17 743 1901; email: pzl.lm@global.lmco.com; website: pzlmielec.pl.

• You may view this material at the FAA, Airworthiness Products Section, Operational Safety Branch, 901 Locust, Kansas City, MO 64106. For information on the availability of this material at the FAA, call (817) 222-5110. It is also available at regulations.gov under Docket No. FAA-2025-3994.

FOR FURTHER INFORMATION CONTACT: Doug Rudolph, Aviation Safety Engineer, FAA, 1600 Stewart Avenue, Suite 410, Westbury, NY 11590; phone: (816) 329-4059; email: doug.rudolph@faa.gov.

SUPPLEMENTARY INFORMATION:

Comments Invited

The FAA invites you to send any written data, views, or arguments about this final rule. Send your comments using a method listed under the ADDRESSES section. Include “Docket No. FAA-2025-3994; Project Identifier MCAI-2025-01607-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Doug Rudolph, Aviation Safety Engineer, FAA, 1600 Stewart Avenue, Suite 410, Westbury, NY 11590. Any commentary that the FAA receives which is not specifically designated as CBI will be placed in the public docket for this rulemaking.

Background

The FAA issued Emergency AD 2025-21-51, dated October 15, 2025 (the emergency AD), to address an unsafe condition on Polskie Zakłady Lotnicze Sp. z o.o. Model PZL M28 05 airplanes, all serial numbers. The FAA sent the emergency AD to all known U.S. owners and operators of these airplanes. The emergency AD requires a one-time inspection of the rudder control system mounting bracket attachment components to Frame No. 29 for loose or damaged bolts and the components of Frame No. 29 for cracks and damage, and corrective actions if necessary.

The emergency AD was prompted by Emergency AD 2025-0221-E, dated October 10, 2025, issued by the European Union Aviation Safety Agency (EASA), which is the Technical Agent for the Member States of the European Union (EASA AD 2025-0221-E) (also referred to as the MCAI), to correct an unsafe condition on Polskie Zakłady Lotnicze Sp. z o.o. Models PZL M28 02 (including PZL M28 02-W variant) and PZL M28 05 airplanes, all serial numbers. The MCAI states that damage was found in Frame No. 29 and rudder control unit mounting components on Frame No. 29. The emergency AD was prompted by a report of cracked bolts that attach the rudder control unit mounting bracket to Frame No. 29. This resulted in the loss of two out of the four bolts on a structural component in the rudder flight control system. The emergency AD is intended to detect and correct cracked bolts and structure that attach the rudder control unit mounting bracket to Frame No. 29. This condition, if not addressed, could result in loss of the bolts that attach structural components to the rudder flight control system, and consequent loss of rudder control and reduced control of the airplane. The FAA is issuing this AD to address the unsafe condition on these products.

You may examine the MCAI in the AD docket at regulations.gov under Docket No. FAA-2025-3994.

Material Incorporated by Reference Under 1 CFR Part 51

The FAA reviewed Polskie Zakłady Lotnicze Sp. z o.o. Service Bulletin No. E/12.152/2025, dated October 9, 2025 (Polskie Zakłady Lotnicze Sp. z o.o. SB E/12.152/2025). This material specifies procedures for a one-time visual inspection of the rudder control system mounting bracket attachment components to Frame No. 29 for loose or damaged (e.g., cracked, corroded, or deformed) bolts and nuts and the components of Frame No. 29 for damage (e.g., cracks, corrosion, or deformation). This material also specifies replacing any damaged (e.g., cracked, corroded, or deformed) bolts and nuts, correcting any looseness found, and repairing any damaged (e.g., cracked, corroded, or deformed) components.

This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI and material referenced above. The FAA is issuing this AD after determining that the unsafe condition described previously is likely to exist or develop on other products of the same type design.

AD Requirements

This AD requires accomplishing the actions specified in Polskie Zakłady Lotnicze Sp. z o.o. SB E/12.152/2025, except as discussed under “Differences Between this AD and the MCAI and Referenced Material.”

Differences Between This AD, the Emergency AD, and the MCAI and Referenced Material

The MCAI applies to Polskie Zakłady Lotnicze Sp. z o.o. Model PZL M28 02-W airplanes, but this AD and the emergency AD do not because this model does not have an FAA type certificate.

Polskie Zakłady Lotnicze Sp. z o.o. SB E/12.152/2025 states to contact Polskie Zakłady Lotnicze Sp. z o.o. if there is any damage beyond the damaged bolts and nuts, i.e., damaged bracket 28.00.5302.250.000 or elements of Frame No. 29. This AD and the emergency AD require repairs using a method approved by the Manager, International Validation Branch, FAA; EASA; or Polskie Zakłady Lotnicze Sp. z o.o.'s EASA Design Organization Approval (DOA). If approved by the DOA, the approval must include the DOA-authorized signature.

This AD and the emergency AD require performing a cable tension and rudder rigging inspection if damage is found where the MCAI and Polskie Zakłady Lotnicze Sp. z o.o. SB E/12.152/2025 do not.

This AD and the emergency AD require performing an inspection with 10x magnification with a high-powered light where the MCAI and Polskie Zakłady Lotnicze Sp. z o.o. SB E/12.152/2025 do not.

Interim Action

The FAA considers that this AD is an interim action. Investigation into the root cause of this unsafe condition is ongoing. When the investigation is complete and further corrective actions are identified, the FAA may consider additional rulemaking action.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD to all known U.S. owners and operators of these airplanes. The FAA has found that the risk to the flying public justifies forgoing notice and comment prior to adoption of this rule because loose or cracked bolts on a structural element in the rudder flight control system could result in loss of rudder control and reduced control of the airplane. Because the root cause is unknown, this situation could occur at any time without notice, and inspection must be done before further flight. This compliance time is shorter than the time necessary for the public to comment and for the publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forego notice and comment.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects nine airplanes of U.S. registry.

The FAA estimates the following costs to comply with this AD:

Estimated Costs
Action | Labor cost | Parts cost | Cost per product | Cost on U.S. operators
Inspect Frame No. 29 and rudder flight control unit mounting components | 1 work-hour × $85 per hour = $85 | $0 | $85 | $765

The FAA estimates the following costs to do any necessary replacements that would be required based on the results of the inspection. The agency has no way of determining the number of aircraft that might need these replacements:

On-Condition Costs
Action | Labor cost | Parts cost | Cost per product
Replace damaged bolts and nuts | 1 work-hour × $85 per hour = $85 | $100 | $185
Inspect cable tension and rudder rigging | 3 work-hours × $85 per hour = $255 | 0 | 255
Report bolt and nut damage | 1 work-hour × $85 per hour = $85 | 0 | 85
Repair damage beyond bolts and nuts | 5 work-hours × $85 per hour = $425 | 10,000 | 10,425

The FAA has included all known costs in its cost estimate. Any damage detected beyond the nuts and bolts will vary with aircraft and the FAA cannot provide an estimate of the on-condition repair cost.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-21-51 Polskie Zaklady Lotnicze Sp. z o.o: Amendment 39-23179; Docket No. FAA-2025-3994; Project Identifier MCAI-2025-01607-A.

(a) Effective Date

The FAA issued Emergency Airworthiness Directive (AD) 2025-21-51 on October 15, 2025, directly to affected owners and operators. As a result of such actual notice, that emergency AD was effective for those owners and operators on the date it was received. This AD contains the same requirements as the emergency AD and, for those who did not receive actual notice, is effective on November 19, 2025

(b) Affected ADs

None.

(c) Applicability

This AD applies to all Polskie Zakłady Lotnicze Sp. z o.o. Model PZL M28 05 airplanes, certificated in any category.

(d) Subject

Joint Aircraft System Component (JASC) Code 2720, Rudder Control System.

(e) Unsafe Condition

This AD was prompted by a report of cracked bolts that attach the rudder control unit mounting bracket to Frame No. 29, which resulted in the loss of two out of the four bolts on a structural component in the rudder flight control system. The FAA is issuing this AD to detect and correct damaged bolts/nuts and structure that attach the rudder control unit mounting bracket to Frame No. 29. This condition, if not addressed, could result in loss of the bolts that attach structural components to the rudder flight control system, and consequent loss of rudder control and reduced control of the airplane.

(f) Compliance

Comply with this AD within the compliance times specified, unless already done.

(g) Definitions

For the purpose of this AD, the following definitions apply:

(1) Affected parts: Frame No. 29 and rudder flight control unit mounting components on Frame No. 29.

(2) The Service Bulletin (SB): Polskie Zakłady Lotnicze Sp. z o.o. Service Bulletin No. E/12.152/2025, dated October 9, 2025.

(h) Required Actions

(1) Before further flight after the effective date of this AD, inspect each affected part for looseness or damage (e.g., cracks, corrosion, or deformation) in accordance with paragraphs (2) and (3) of Section III of the SB specified in paragraph (g)(2) of this AD. For this inspection, thoroughly clean the area and use a 10x magnification with a high-powered light.

(2) If any looseness or damage is found in the bolts, nuts, or components during the inspection required by paragraph (h)(1) of this AD, before further flight, replace or correct the affected parts in accordance with paragraph (2) of Section III of the SB specified in paragraph (g)(2) of this AD.

(3) If any damage is found during the inspection required by paragraph (h)(1) of this AD, do the following:

(i) If damage is found on the bolts and nuts only, within 10 days after the inspection or 10 days after the effective date of this AD, whichever occurs later, report the damage to Polskie Zakłady Lotnicze Sp. z o.o. and perform a cable tension and rudder rigging inspection.

(ii) If damage is found beyond bolts and nuts as specified in paragraph (4) of Section III of the SB specified in paragraph (g)(2) of this AD, before further flight, repair using a method approved by the Manager, International Validation Branch, FAA; European Union Aviation Safety Agency (EASA); or Polskie Zakłady Lotnicze Sp. z o.o.'s EASA Design Organization Approval (DOA); and perform a cable tension and rudder rigging inspection. If approved by the DOA, the approval must include the DOA-authorized signature.

(i) Special Flight Permits

Special flight permits are prohibited.

(j) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD and email to: AMOC@faa.gov. Before using any approved AMOC, notify your appropriate principal inspector, or lacking a principal inspector, the manager of the local flight standards district office/certificate holding district office.

(k) Additional Information

(1) For more information about this AD, contact Doug Rudolph, Aviation Safety Engineer, FAA, 1600 Stewart Avenue, Suite 410, Westbury, NY 11590; phone: (816) 329-4059; email: doug.rudolph@faa.gov.

(2) For Polskie Zakłady Lotnicze Sp. z o.o. material identified in this AD, contact Wojska Polskiego 3, 39-300 Mielec, Poland; phone: +48 17 743 1901; email: pzl.lm@global.lmco.com; website: pzlmielec.pl.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(3) The following material was approved for IBR on November 19, 2025.

(i) Polskie Zakłady Lotnicze Sp. z o.o. Service Bulletin No. E/12.152/2025, dated October 9, 2025.

(ii) [Reserved]

(4) For Polskie Zakłady Lotnicze Sp. z o.o. material identified in this AD, contact Polskie Zakłady Lotnicze Sp. z o.o., Wojska Polskiego 3, 39-300 Mielec, Poland; phone: +48 17 743 1901; email: pzl.lm@global.lmco.com; website: pzlmielec.pl.

(5) You may view this material at FAA, Airworthiness Products Section, Operational Safety Branch, 901 Locust, Kansas City, MO 64106. For information on the availability of this material at the FAA, call (817) 222-5110.

(6) You may view this material at the National Archives and Records Administration (NARA). For information on the availability of this material at NARA, visit www.archives.gov/federal-register/cfr/ibr-locations or email fr.inspection@nara.gov.

Issued on October 31, 2025.
Steven W. Thompson,
Acting Deputy Director, Compliance & Airworthiness Division, Aircraft Certification Service.

[FR Doc. 2025-19777 Filed 10-31-25; 4:15 pm]

BILLING CODE 4910-13-P